DEPARTMENT OF ENERGY

[FE Docket No. 04-59-NG, et al.]

Office of Fossil Energy, Sacramento Municipal Utility District, Orders Granting, and Amending Authority to Import and Export Natural Gas, Including Liquefied Natural Gas

AGENCY: Office of Fossil Energy, DOE.

ACTION: Notice of orders.

SUMMARY: The Office of Fossil Energy (FE) of the Department of Energy gives notice that during June 2004, it issued Orders granting and amending authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC on July 13, 2004.
Sally Kornfeld,
Manager, Natural Gas Regulation, Office of Natural Gas & Petroleum Import & Export Activities, Office of Fossil Energy.

Appendix—Orders Granting and Amending Import/Export Authorizations
DOE/FE authority
Order No. | Date issued | Importer/exporter FE docket No. | Import volume | Export volume | Comments
1987 | 6-1-04 | Sacramento Municipal Utility District, 04-59-NG | 50Bcf |  | Import natural gas from Canada, beginning on July 1, 2002, and extending through June 30, 2004
1988 | 6-1-04 | St. Lawrence Gas Company, Inc., 04-57-NG | 25.8 Bcf |  | Import natural gas from Canada, beginning on July 26, 2004, and extending through July 25, 2006.
1989 | 6-1-04 | Terasen Gas Inc. (Formerly BC Gas Utility Ltd.), 04-52-NG | 8 Bcf |  | Import and export natural gas from and to Canada beginning May 1, 2004, and extending through March 31, 2005.
1990 | 6-7-04 | Coral Energy Resources, L.P., 04-56-NG | 730 Bcf |  | Import and export a combined total of natural gas from and to Canada and Mexico, and to import LNG from other international sources, beginning on June 20, 2004, and extending through June 19, 2006.
1991 | 6-7-04 | Tractebel LNG North America Service Corporation, 04-58-NG | 100 Bcf |  | Import LNG from various international sources beginning on June 18, 2004, and extending through June 17, 2006.
1992 | 6-7-04 | Portland General Electric Company, 04-60-NG | 90Bcf | 45 Bcf | Import and export natural gas from and to Canada, beginning on November 3, 2003, and extending through November 2, 2005.
1993 | 6-8-04 | PremStar Energy Canada Ltd., 04-61-NG | 400 Bcf |  | Import and export a combined total of natural gas from and to Canada, beginning on June 1, 2004, and extending through May 30, 2006.
1994 | 6-8-04 | Alea Trading LLC, 04-63-LNG | 60 Bcf |  | Import LNG from various international sources beginning on July 1, 2004, and extending through June 30, 2006.
1995 | 6-9-04 | LNGJ USA Inc., 04-62-LNG | 300 Bcf |  | Import LNG from various international sources beginning on June 9, 2004, and extending through June 8, 2006.
1996 | 6-9-04 | First Indigenous Depository Company, LLC, 04-64-NG | 90 Bcf |  | Import natural gas from Canada, beginning on May 28, 2004, and extending through May 27, 2006.
1997 | 6-17-04 | North American Energy, Inc., 04-67-NG | 20 Bcf |  | Import natural gas from Canada, beginning on August 3, 2002, and extending through August 2, 2004.
1998 | 6-17-04 | Power City Partners, L.P., 04-65-NG | 146 Bcf |  | Import natural gas from Canada, beginning on July 1, 2004, and extending through June 30, 2006.
1999 | 6-18-04 | Transalta Energy Marketing (U.S.) Inc., 04-66-NG | 400 Bcf |  | Import and export a combined total of natural gas from and to Canada, beginning on October 1, 2003, and extending through September 30, 2005.
1862-B | 6-21-04 | NEGT Energy Trading—Gas Corporation (Formerly PG&E Energy Trading—Gas Corporation), 03-14-NG |  |  | Name change.
2000 | 6-22-04 | Amerada Hess Corporation, 04-69-NG | 100 Bcf |  | Import natural gas from Canada, beginning on January 1, 2003, and extending through December 31, 2004.
2001 | 6-28-04 | Avista Corporation, 04-70-NG | 150 Bcf |  | Import and export a combined total of natural gas from and to Canada, beginning on June 25, 2004, and extending through June 24, 2006.

[FR Doc. 04-18137 Filed 8-6-04; 8:45 am]

BILLING CODE 6450-01-P